DEPARTMENT OF AGRICULTURE

Grain Inspection, Packers and Stockyards Administration

Designation for the Sandusky, MI; Davenport, IA; Enid, OK; Keokuk, IA; Marshall, MI; and Omaha, NE Areas

AGENCY: Grain Inspection, Packers and Stockyards Administration, USDA.

ACTION: Notice.

SUMMARY: GIPSA is announcing the designation of Detroit Grain Inspection Service, Inc. (Detroit); Eastern Iowa Grain Inspection and Weighing Service, Inc. (Eastern Iowa); Enid Grain Inspection Company, Inc. (Enid); Keokuk Grain Inspection Service (Keokuk); Michigan Grain Inspection Services, Inc. (Michigan); and Omaha Grain Inspection Service, Inc. (Omaha) to provide official services under the United States Grain Standards Act (USGSA), as amended.

DATES: Effective Date: April 1, 2013.

ADDRESSES: Eric J. Jabs, Chief, USDA, GIPSA, FGIS, QACD, QADB, 10383 North Ambassador Drive, Kansas City, MO 64153.

FOR FURTHER INFORMATION CONTACT: Eric J. Jabs, 816-659-8408 or Eric.J.Jabs@usda.gov.

Read Applications: All applications and comments will be available for public inspection at the office above during regular business hours (7 CFR 1.27(c)).

SUPPLEMENTARY INFORMATION: In the September 13, 2012 Federal Register (77 FR 56608), GIPSA requested applications for designation to provide official services in the geographic areas presently serviced by Detroit, Eastern Iowa, Enid, Keokuk, Michigan, and Omaha. Applications were due by October 15, 2012.

Detroit, Eastern Iowa, Enid, Keokuk, Michigan, and Omaha were the sole applicants for designation to provide official services in these areas. As a result, GIPSA did not ask for additional comments.

GIPSA evaluated all available information regarding the designation criteria in section 79(f) of the USGSA (7 U.S.C. 79(f)) and determined that Detroit, Eastern Iowa, Enid, Keokuk, Michigan, and Omaha are qualified to provide official services in the geographic area specified in the Federal Register on September 13, 2012. This designation action to provide official services in these specified areas is effective April 1, 2013 and terminates on March 31, 2016.

Interested persons may obtain official services by contacting these agencies at the following telephone numbers:

Official agency | Headquarters location and telephone | Designation start | Designation end
Detroit | Sandusky, MI (810) 404-3786 | 4/1/2013 | 3/31/2016
Eastern Iowa | Davenport, IA (563) 322-7149 | 4/1/2013 | 3/31/2016
Enid | Enid, OK (580) 233-1122 | 4/1/2013 | 3/31/2016
Keokuk | Keokuk, IA (319) 524-4682 | 4/1/2013 | 3/31/2016
Michigan | Marshall, MI (269) 781-2711 | 4/1/2013 | 3/31/2016
Omaha | Omaha, NE (402) 341-6739 | 4/1/2013 | 3/31/2016

Section 79(f) of the USGSA authorizes the Secretary to designate a qualified applicant to provide official services in a specified area after determining that the applicant is better able than any other applicant to provide such official services (7 U.S.C. 79 (f)).

Under section 79(g) of the USGSA, designations of official agencies are effective for no longer than three years unless terminated by the Secretary; however, designations may be renewed according to the criteria and procedures prescribed in section 79(f) of the USGSA.

Authority: 7 U.S.C. 71-87k.

Larry Mitchell,
Administrator, Grain Inspection, Packers and Stockyards Administration.

[FR Doc. 2013-04304 Filed 2-25-13; 8:45 am]

BILLING CODE 3410-KD-P